DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of 41 persons whose property and interests in property are blocked pursuant to the Global Terrorism Sanctions Regulations, and whose entries on OFAC's Specially Designated National and Blocked Persons List (SDN List) have been amended accordingly. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The SDN List and additional information concerning OFAC sanctions programs are available on OFAC's Web site (www.treas.gov/ofac).

Notice of OFAC Actions

On June 6, 2003, OFAC issued the GTSR (68 FR 34196, June 6, 2003) to implement E.O. 13224. OFAC has amended the GTSR on several occasions.

On August 2, 2017, the President signed into law the Countering America's Adversaries Through Sanctions Act, Public Law 115-44, Aug. 2, 2017, 131 Stat. 886 (22 U.S.C. 9401 et seq.) (CAATSA). Section 105(b) of CAATSA requires the President to impose the sanctions applicable with respect to a foreign person pursuant to the global terrorism Executive Order 13224 of September 23, 2001 (66 FR 49079, September 25, 2001) (E.O. 13224) on Iran's Islamic Revolutionary Guard Corps (IRGC) and foreign persons that are officials, agents, or affiliates of the IRGC. Such sanctions must be imposed beginning on the date that is 90 days after enactment of CAATSA, which was October 31, 2017.

Consistent with Section 105(b) of CAATSA, OFAC designated the IRGC on October 13, 2017, pursuant to E.O. 13224 for providing support to the IRGC-Qods Force, which previously had been designated for its support to various terrorist groups. OFAC also issued an amendment to the GTSR, effective October 31, 2017, adding § 594.201(a)(5) to Subpart B of the GTSR to include the following as persons whose property and interests in property are blocked pursuant to the GTSR: Foreign persons that are identified on the SDN List maintained by OFAC as officials, agents, or affiliates of the IRGC (82 FR 50313, October 31, 2017).

The names of persons whose property and interests in property are blocked pursuant to section 594.201(a) of the GTSR are published in the Federal Register and incorporated into the SDN List with the identifier “[SDGT].” Upon publication of the above-referenced GTSR amendment in the Federal Register on October 31, 2017, the following 41 persons became persons whose property and interests in property are blocked pursuant to section 594.201(a)(5) of the GTSR. Accordingly, OFAC has added the reference “[SDGT]” to their SDN List entries.

Individuals

1. AHMADIAN, Ali Akbar (a.k.a. AHMADIYAN, Ali Akbar); DOB circa 1961; POB Kerman, Iran; nationality Iran; citizen Iran; Additional Sanctions Information—Subject to Secondary Sanctions (individual) [SDGT] [NPWMD] [IRGC] [IFSR].

2. ARAGHI, Abdollah (a.k.a. ARAQI, Abdollah; a.k.a. ARAQI, Abdullah; a.k.a. ERAGHI, Abdollah; a.k.a. ERAQI, Abdollah); DOB 1945; POB Iran; Additional Sanctions Information—Subject to Secondary Sanctions; Lieutenant Commander, IRGC Ground Force; Deputy Commander, IRGC Ground Forces; Brigadier General; Former Commander, Greater Tehran's Mohammad Rasulollah IRGC; Former Chief, Greater Tehran Revolutionary Guards (individual) [SDGT] [IRGC] [IRAN-HR].

3. FATTAH, Parviz (a.k.a. FATTAH-QAREHBAGHI, Parviz); DOB 1961; alt. DOB 1962; POB Urmia, Iran; Additional Sanctions Information—Subject to Secondary Sanctions (individual) [SDGT] [NPWMD] [IRGC] [IFSR].

4. FORUZANDEH, Ahmed (a.k.a. FAYRUZI, Ahmad; a.k.a. FOROOZANDEH, Ahmad; a.k.a. FORUZANDEH, Ahmad; a.k.a. FRUZANDAH, Ahmad; a.k.a. “ABU AHMAD ISHAB”; a.k.a. “ABU SHAHAB”; a.k.a. “JAFARI”), Qods Force Central Headquarters, Former U.S. Embassy Compound, Tehran, Iran; DOB circa 1960; alt. DOB 1957; alt. DOB circa 1955; alt. DOB circa 1958; alt. DOB circa 1959; alt. DOB circa 1961; alt. DOB circa 1962; alt. DOB circa 1963; POB Kermanshah, Iran; Additional Sanctions Information—Subject to Secondary Sanctions; Brigadier General, Commanding Officer of the Iranian Islamic Revolutionary Guard Corps-Qods Force Ramazan Corps; Deputy Commander of the Ramazan Headquarters; Chief of Staff of the Iraq Crisis Staff (individual) [SDGT] [IRAQ3] [IRGC].

5. HEJAZI, Mohammad; DOB circa 1959; nationality Iran; citizen Iran; Additional Sanctions Information—Subject to Secondary Sanctions (individual) [SDGT] [NPWMD] [IRGC] [IFSR].

6. JAFARI, Mohammad Ali (a.k.a. JAFARI, Ali; a.k.a. JA'FARI, Mohammad Ali; a.k.a. JAFARI-NAJAFABADI, Mohammad Ali; a.k.a. “JA'FARI, Aziz”), c/o IRGC, Tehran, Iran; DOB 01 Sep 1957; POB Yazd, Iran; Additional Sanctions Information—Subject to Secondary Sanctions; Commander-in-Chief, Islamic Revolutionary Guard Corps; Commander, Islamic Revolutionary Guard Corps; Major General; Brigadier Commander (individual) [SDGT] [NPWMD] [IRGC] [IFSR] [IRAN-HR].

7. NAQDI, Mohammad Reza (a.k.a. NAGHDI, Mohammad Reza; a.k.a. NAQDI, Muhammad; a.k.a. SHAMS, Mohammad Reza); DOB circa 1952; alt. DOB circa Mar 1961; alt. DOB circa Apr 1961; alt. DOB 1953; POB Najaf, Iraq; alt. POB Tehran, Iran; Additional Sanctions Information—Subject to Secondary Sanctions; Brigadier General and Commander of the IRGC Basij Resistance Force; President of the Organization of the Basij of the Oppressed; Chief of the Mobilization of the Oppressed Organization; Head of the Basij (individual) [SDGT] [NPWMD] [IRGC] [IFSR] [IRAN-HR].

8. QASEMI, Rostam (a.k.a. GHASEMI MOHAMMADALI, ROSTAM), Iran; nationality Iran; citizen Iran; Additional Sanctions Information—Subject to Secondary Sanctions; Passport A2463775 (Iran) (individual) [SDGT] [NPWMD] [IRGC] [IFSR].

9. REZAIE, Morteza (a.k.a. REZAI, Morteza); DOB circa 1956; nationality Iran; citizen Iran; Additional Sanctions Information—Subject to Secondary Sanctions (individual) [SDGT] [NPWMD] [IRGC] [IFSR].

10. SAFAVI, Yahya Rahim (a.k.a. AL-SIFAWI, Yahya Rahim; a.k.a. RAHIM SAFAWI, Yahia; a.k.a. RAHIM-SAFAVI, Yahya; a.k.a. SAFAVI, Rahim; a.k.a. YAHYA RAHIM-SAFAVI, Seyyed; a.k.a. YAHYA SAFAVI, Sayed); DOB circa 1952; POB Esfahan, Iran; Additional Sanctions Information—Subject to Secondary Sanctions (individual) [SDGT] [NPWMD] [IRGC] [IFSR].

11. SALIMI, Hosein (a.k.a. SALAMI, Hoseyn; a.k.a. SALAMI, Hossein; a.k.a. SALAMI, Hussayn); nationality Iran; citizen Iran; Additional Sanctions Information—Subject to Secondary Sanctions; Passport D08531177 (Iran) (individual) [SDGT] [NPWMD] [IRGC] [IFSR].

12. TAEB, Hossein (a.k.a. TAEB, Hassan; a.k.a. TAEB, Hosein; a.k.a. TAEB, Hussayn); DOB 1963; POB Tehran, Iran; Additional Sanctions Information—Subject to Secondary Sanctions; Deputy Commander for Intelligence, Islamic Revolutionary Guard Corps; Hojjatoleslam; Former Commander of the Basij Forces (individual) [SDGT] [IRGC] [IRAN-HR].

Entities

1. BAQIYATTALLAH UNIVERSITY OF MEDICAL SCIENCES (a.k.a. BAGHIATOLLAH MEDICAL SCIENCES UNIVERSITY; a.k.a. BAGHYATOLLAH MEDICAL SCIENCES UNIVERSITY; a.k.a. BAGIATOLLAH MEDICAL SCIENCES UNIVERSITY; a.k.a. BAQIATOLLAH MEDICAL SCIENCES UNIVERSITY; a.k.a. BAQIYATALLAH MEDICAL SCIENCES UNIVERSITY; a.k.a. BAQIYATALLAH UNIVERSITY OF MEDICAL SCIENCES; a.k.a. BAQYATOLLAH MEDICAL SCIENCES UNIVERSITY), Vanak Square, Molla-Sadra Avenue, Box number: 19945, Tehran, Iran; Web site http://www.bmsu.ac.ir/; Additional Sanctions Information—Subject to Secondary Sanctions [SDGT] [NPWMD] [IRGC] [IFSR].

2. BASIJ RESISTANCE FORCE (a.k.a. BASEEJ; a.k.a. BASIJ; a.k.a. BASIJ-E MELLI; a.k.a. MOBILIZATION OF THE OPPRESSED ORGANIZATION; f.k.a. SAZMAN BASIJ MELLI; a.k.a. SAZMAN-E MOGHAVEMAT-E BASIJ; f.k.a. VAHED-E BASIJ-E MOSTAZAFEEN; f.k.a. “NATIONAL MOBILIZATION ORGANIZATION”; a.k.a. “NATIONAL RESISTANCE MOBILIZATION”; a.k.a. “RESISTANCE MOBILIZATION FORCE”), Iran; Additional Sanctions Information—Subject to Secondary Sanctions [SDGT] [IRGC] [IRAN-HR].

3. BONYAD TAAVON SEPAH (a.k.a. BONYAD-E TA'AVON-E; a.k.a. IRGC COOPERATIVE FOUNDATION; a.k.a. SEPAH COOPERATIVE FOUNDATION), Niayes Highway, Seoul Street, Tehran, Iran; Additional Sanctions Information—Subject to Secondary Sanctions [SDGT] [NPWMD] [IRGC] [IFSR].

4. DEEP OFFSHORE TECHNOLOGY COMPANY, P.J.S., 1st Floor, Sadra Building, No. 3, Shafagh Street, Shahid Dadman Boulevard, Paknejad Boulevard, 7th Phase, Shahrake-E-Quds, Tehran, Iran; Additional Sanctions Information—Subject to Secondary Sanctions [SDGT] [NPWMD] [IRGC] [IFSR].

5. FATER ENGINEERING INSTITUTE (a.k.a. FAATER INSTITUTE; a.k.a. FATER ENGINEERING COMPANY; a.k.a. GHARARGAH GHAEM FAATER INSTITUTE), No. 25, Valiasr Jonoobi, Azizi Street, Azadi Sq. NE., Tehran, Iran; Additional Sanctions Information—Subject to Secondary Sanctions [SDGT] [NPWMD] [IRGC] [IFSR].

6. GHARARGAHE SAZANDEGI GHAEM (a.k.a. GHARARGAH GHAEM), No. 25, Valiasr St., Azadi Sq., Tehran, Iran; Additional Sanctions Information—Subject to Secondary Sanctions [SDGT] [NPWMD] [IRGC] [IFSR].

7. GHORB KARBALA (a.k.a. GHARARGAH KARBALA; a.k.a. GHARARGAH SAZANDEGI KARBALA-MOASSESEH TAHA), No. 2 Firouzeh Alley, Shahid Hadjipour St., Resalat Highway, Tehran, Iran; Additional Sanctions Information—Subject to Secondary Sanctions [SDGT] [NPWMD] [IRGC] [IFSR].

8. GHORB NOOH, P.O. Box 16765-3476, Tehran, Iran; Additional Sanctions Information—Subject to Secondary Sanctions [SDGT] [NPWMD] [IRGC] [IFSR].

9. HARA COMPANY (a.k.a. HARA INSTITUTE), Tehran, Iran; Additional Sanctions Information—Subject to Secondary Sanctions [SDGT] [NPWMD] [IRGC] [IFSR].

10. IMAM HOSSEIN UNIVERSITY (a.k.a. EMAM HOSEYN COMPREHENSIVE UNIVERSITY; a.k.a. IHU; a.k.a. IMAAM HOSSEIN UNIVERSITY; a.k.a. IMAM HOSEYN UNIVERSITY; a.k.a. IMAM HOSSEIN UNIVERSITY COMPLEX; a.k.a. IMAM HUSSEIN UNIVERSITY; a.k.a. UNIVERSITY OF IMAM HOSEYN), Near Fourth Square, Tehran Pars, Shahid Babaie Highway, near Hakimiyeh and Mini-city, Tehran, Iran; Kilometer 11, Shahid Babaei Highway, Tehran, Iran; Web site www.ihu.ac.ir; Additional Sanctions Information—Subject to Secondary Sanctions [SDGT] [NPWMD] [IRGC] [IFSR].

11. IMENSAZEN CONSULTANT ENGINEERS INSTITUTE, No. 5/1, Niroo Alley, Padegan-e-Valiasr Street, Sepah Square, Tehran, Iran; Additional Sanctions Information—Subject to Secondary Sanctions [SDGT] [NPWMD] [IRGC] [IFSR].

12. IRAN MARINE INDUSTRIAL COMPANY, SADRA (a.k.a. IRAN MARINE INDUSTRIAL COMPANY SSA; a.k.a. IRAN SADRA; a.k.a. IRAN SHIP BUILDING CO.; a.k.a. SADRA; a.k.a. SHERKATE SANATI DARYAI IRAN), 3rd Floor Aftab Building, No. 3 Shafagh Street, Dadman Blvd., Phase 7, Shahrak Ghods, P.O. Box 14665-495, Tehran, Iran; Office E-43 Torre E-Piso 4, Centrao Commercial Lido Av., Francisco de Miranda, Caracas, Venezuela; Web site www.sadra.ir; Additional Sanctions Information—Subject to Secondary Sanctions [SDGT] [NPWMD] [IRGC] [IFSR].

13. ISLAMIC REVOLUTIONARY GUARD CORPS AEROSPACE FORCE SELF SUFFICIENCY JIHAD ORGANIZATION (a.k.a. ISLAMIC REVOLUTIONARY GUARD CORPS AEROSPACE FORCE RESEARCH AND SELF SUFFICIENCY JEHAD ORGANIZATION; a.k.a. ISLAMIC REVOLUTIONARY GUARD CORPS AEROSPACE FORCE SELF-SUFFICIENCY JEHAD ORGANIZATION), Iran; Additional Sanctions Information—Subject to Secondary Sanctions [SDGT] [NPWMD] [IRGC] [IFSR].

14. ISLAMIC REVOLUTIONARY GUARD CORPS AIR FORCE (a.k.a. IRGC AIR FORCE; a.k.a. SEPAH PASDARAN AIR FORCE), Tehran, Iran; Additional Sanctions Information—Subject to Secondary Sanctions [SDGT] [NPWMD] [IRGC] [IFSR].

15. ISLAMIC REVOLUTIONARY GUARD CORPS AL-GHADIR MISSILE COMMAND (a.k.a. IRGC AIR FORCE AL-GHADIR MISSILE COMMAND; a.k.a. IRGC MISSILE COMMAND), Tehran, Iran; Additional Sanctions Information—Subject to Secondary Sanctions [SDGT] [NPWMD] [IRGC] [IFSR].

16. ISLAMIC REVOLUTIONARY GUARD CORPS RESEARCH AND SELF-SUFFICIENCY JEHAD ORGANIZATION (a.k.a. ISLAMIC REVOLUTIONARY GUARD CORPS RESEARCH AND SELF-SUFFICIENCY JIHAD ORGANIZATION; a.k.a. ISLAMIC REVOLUTIONARY GUARD CORPS SELF-SUFFICIENCY JEHAD ORGANIZATION), Iran; Additional Sanctions Information—Subject to Secondary Sanctions [SDGT] [NPWMD] [IRGC] [IFSR].

17. KHATAM OL ANBIA GHARARGAH SAZANDEGI NOOH (a.k.a. GHORB KHATAM; a.k.a. KHATAM AL-ANBYA; a.k.a. KHATAM OL AMBIA), No. 221, Phase 4, North Falamak-Zarafshan Intersection, Shahrak-E-Ghods, Tehran 14678, Iran; Additional Sanctions Information—Subject to Secondary Sanctions [SDGT] [NPWMD] [IRGC] [IFSR].

18. MAKIN INSTITUTE (a.k.a. MAKIN COMPANY), No. 2 Iravan St.—Tishfoon St.—Khaje Abdol ah Ansari St.—Shariati St., Tehran, Iran; Additional Sanctions Information—Subject to Secondary Sanctions [SDGT] [NPWMD] [IRGC] [IFSR].

19. MEHR BANK (a.k.a. MEHR FINANCE AND CREDIT INSTITUTE; a.k.a. MEHR INTEREST-FREE BANK), 204 Taleghani Ave., Tehran, Iran; Additional Sanctions Information—Subject to Secondary Sanctions [SDGT] [NPWMD] [IRGC] [IFSR].

20. MEHR-E EQTESAD-E IRANIAN INVESTMENT COMPANY (a.k.a. MEHR EGHTESAD IRANIAN INVESTMENT COMPANY; a.k.a. MEHR IRANIAN ECONOMY COMPANY; a.k.a. MEHR IRANIAN ECONOMY INVESTMENTS; f.k.a. TEJARAT TOSE'E EQTESADI IRANIAN), No. 18, Iranian Building, 14th Alley, Ahmad Qassir Street, Argentina Square, Tehran, Iran; No. 48, 14th Alley, Ahmad Qassir Street, Argentina Square, Tehran, Iran; Web site www.mebank.ir; Additional Sanctions Information—Subject to Secondary Sanctions; Business Registration Document # 103222 (Iran); Telephone: 982188526300; Alt. Telephone: 982188526301; Alt. Telephone: 982188526302; Alt. Telephone: 982188526303; Alt. Telephone: 9821227700019l; Fax: 982188526337; Alt. Fax: 9221227700019 [SDGT] [NPWMD] [IRGC] [IFSR].

21. OMRAN SAHEL, Tehran, Iran; Additional Sanctions Information—Subject to Secondary Sanctions [SDGT] [NPWMD] [IRGC] [IFSR].

22. ORIENTAL OIL KISH, Second Floor, 96/98 East Atefi St., Africa Blvd., Tehran, Iran; Dubai, United Arab Emirates; Additional Sanctions Information—Subject to Secondary Sanctions [SDGT] [NPWMD] [IRGC] [IFSR].

23. RAH SAHEL INSTITUTE, Tehran, Iran; Additional Sanctions Information—Subject to Secondary Sanctions [SDGT] [NPWMD] [IRGC] [IFSR].

24. RAHAB INSTITUTE (f.k.a. RAHSAZ INSTITUTE), Ghorb-e Ghaem Building, Valiasr St., Azizi Blvd., Azadi Sq., Tehran, Iran; Eastern 14th St., Beihaghi Blvd., Arjantin Sq., Tehran, Iran; Additional Sanctions Information—Subject to Secondary Sanctions [SDGT] [NPWMD] [IRGC] [IFSR].

25. SAHEL CONSULTANT ENGINEERS, No. 57, Eftekhar St., Larestan St., Motahhari Ave., Tehran, Iran; P.O. Box 16765-34, Tehran, Iran; Additional Sanctions Information—Subject to Secondary Sanctions [SDGT] [NPWMD] [IRGC] [IFSR].

26. SEPANIR OIL AND GAS ENGINEERING COMPANY (a.k.a. SEPANIR; a.k.a. SEPANIR ESTABLISHMENT), No. 319 Shahid Bahonar Street, Tehran, Iran; Additional Sanctions Information—Subject to Secondary Sanctions [SDGT] [NPWMD] [IRGC] [IFSR].

27. SEPASAD ENGINEERING COMPANY, No. 4 Corner of Shad St., Mollasadra Ave., Vanak Square, Tehran, Iran; Additional Sanctions Information—Subject to Secondary Sanctions [SDGT] [NPWMD] [IRGC] [IFSR].

28. TEHRAN GOSTARESH COMPANY, P.J.S., No. 24, 5th Alley, Khaled Eslamboli Street, Tehran 1513643811, Iran; Additional Sanctions Information—Subject to Secondary Sanctions [SDGT] [NPWMD] [IRGC] [IFSR].

29. TIDEWATER MIDDLE EAST CO. (a.k.a. FARAZ ROYAL QESHM LLC; a.k.a. TIDE WATER COMPANY; a.k.a. TIDE WATER MIDDLE EAST MARINE SERVICE; a.k.a. TIDEWATER CO. (MIDDLE EAST MARINE SERVICES)), No. 80, Tidewater Building, Vozara Street, Next to Saie Park, Tehran, Iran; Web site www.tidewaterco.com; Email Address info@tidewaterco.com; alt. Email Address info@tidewaterco.ir; IFCA Determination—Port Operator; Additional Sanctions Information—Subject to Secondary Sanctions; Business Registration Document # 18745 (Iran); Telephone: 982188553321; Alt. Telephone: 982188554432; Fax: 982188717367; Alt. Fax: 982188708761; Alt. Fax: 982188708911 [SDGT] [NPWMD] [IRGC] [IFSR].

Dated: November 9, 2017.
John E. Smith,
Director, Office of Foreign Assets Control.

[FR Doc. 2017-24947 Filed 11-16-17; 8:45 am]

BILLING CODE 4810-AL-P